INTERNATIONAL TRADE COMMISSION

[Investigation Nos. 701-TA-413 and 731-TA-913-916 and 918 (Review)]

Stainless Steel Bar From France, Germany, Italy, Korea, and The United Kingdom

Determinations

On the basis of the record ¹ developed in the subject five-year reviews, the United States International Trade Commission (Commission) determines, pursuant to section 751(c) of the Tariff Act of 1930 (19 U.S.C. 1675(c)), that revocation of the countervailing duty and antidumping duty orders on stainless steel bar from France, Germany, Italy, Korea, and the United Kingdom would not be likely to lead to continuation or recurrence of material injury to an industry in the United States within a reasonably foreseeable time.²

¹ The record is defined in sec. 207.2(f) of the Commission's Rules of Practice and Procedure (19 CFR 207.2(f)).

² Commissioner Charlotte R. Lane dissenting. Commissioner Dean A. Pinkert dissenting as to Germany, Italy, and Korea.

Background

The Commission instituted these reviews effective February 1, 2007 (72 FR 4293) and determined on May 7, 2007 that it would conduct full reviews (72 FR 28071, May 18, 2007). Notice of the scheduling of the Commission's reviews and of a public hearing to be held in connection therewith was given by posting copies of the notice in the Office of the Secretary, U.S. International Trade Commission, Washington, DC, and by publishing the notice in the Federal Register on June 26, 2007 (72 FR 35066). The hearing was held in Washington, DC, on November 6, 2007, and all persons who requested the opportunity were permitted to appear in person or by counsel.

The Commission transmitted its determinations in these reviews to the Secretary of Commerce on January 25, 2008. The views of the Commission are contained in USITC Publication 3901 (January 2008), entitled Stainless Steel Bar from France, Germany, Italy, Korea, and the United Kingdom: Investigation Nos. 701-TA-413 and 731-TA913-916 and 918 (Review).

Issued: January 28, 2008.
By order of the Commission.
Marilyn R. Abbott,
Secretary to the Commission.

[FR Doc. E8-1735 Filed 1-30-08; 8:45 am]

BILLING CODE 7020-02-P